DEPARTMENT OF COMMERCE

National Oceanic and Atmospheric Administration

[I.D. 100104F]

Endangered and Threatened Species; Take of Anadromous Fish

AGENCY: National Marine Fisheries Service (NMFS), National Oceanic and Atmospheric Administration (NOAA), Commerce.

ACTION: Application for scientific research permit 1499.

SUMMARY: Notice is hereby given that NMFS has received a scientific research permit application relating to Pacific salmon. The proposed research is intended to increase knowledge of species listed under the Endangered Species Act (ESA) and to help guide management and conservation efforts.

DATES: Comments or requests for a public hearing on the application must be received at the appropriate address or fax number (see ADDRESSES) no later than 5 p.m. Pacific daylight-saving time on November 15, 2004.

ADDRESSES: Written comments on the application should be sent to Protected Resources Division, NMFS, F/NWO3, 525 NE Oregon Street, Suite 500, Portland, OR 97232-2737. Comments may also be sent via fax to 503-230-5435 or by e-mail to resapps.nwr@NOAA.gov.

FOR FURTHER INFORMATION CONTACT: Garth Griffin, Portland, OR (ph.: 503-231-2005, Fax: 503-230-5435, e-mail: Garth.Griffin@noaa.gov). Permit application instructions are available at http://www.nwr.noaa.gov.

SUPPLEMENTARY INFORMATION:

Species Covered in This Notice

The following listed species (evolutionarily significant unit) is covered in this notice:

Chinook salmon (O. tshawytscha): threatened naturally produced and artificially propagated Puget Sound (PS).

Authority

Scientific research permits are issued in accordance with Section 10(a)(1)(A) of the ESA (16 U.S.C. 1531 et seq.) and regulations governing listed fish and wildlife permits (50 CFR Parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NOAA.

Application Received

Permit 1499

The Battelle Marine Sciences Laboratory (BMSL) is requesting a 1-year research permit to annually capture, handle, and release adult and juvenile PS chinook salmon. The research would take place in Puget Sound, Washington. The purpose of the research is to develop a more comprehensive understanding of salmon behavior and movement near large overwater structures. The BMSL intends to determine juvenile fish movement, residence time, activity pattern, and migration routes along unshaded shoreline and adjacent to and under ferry structures. The research would benefit the fish by determining fish behavior near ferry terminals and providing information to be used in reducing the impact the structures have on listed fish. The BMSL proposes to capture the fish using enclosure nets. Most of the captured fish would be anesthetized, identified, counted, checked for tags and marks, allowed to recover, and released. A portion of the juvenile salmonids would be measured, implanted with acoustic tags, released, and tracked remotely. The BMSL does not intend to kill any of the fish being captured, but a small percentage may die as an unintended result of the activities.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: October 8, 2004.
Marta Nammack,
Acting Division Chief, Endangered Species Division, Office of Protected Resources, National Marine Fisheries Service.

[FR Doc. 04-23063 Filed 10-13-04; 8:45 am]

BILLING CODE 3510-22-S